DEPARTMENT OF AGRICULTURE

Forest Service

Siskiyou County Resource Advisory Committee

AGENCY: Forest Service, USDA.

ACTION: Notice of meeting.

SUMMARY: The Siskiyou County Resource Advisory Committee (RAC) will meet in Yreka, California, June 19, 2006. The meeting will include routine business, and two presentations from the Salmon River Restoration Council and the Siskiyou Fire Safe Council on previously funded RAC grants.

DATES: The meeting will be held June 19, 2006, from 4 p.m. until 6 p.m.

ADDRESSES: The meeting will be held at the Yreka High School Library, Preece Way, Yreka, California.

FOR FURTHER INFORMATION CONTACT: Lorenda Cianci, Grants & Agreements Specialist, Klamath National Forest, (530) 841-4402 or electronically at lcianci@fs.fed.us.

SUPPLEMENTARY INFORMATION: The meeting is open to the public. Public comment opportunity will be provided and individuals will have the opportunity to address the Committee at that time.

Dated: June 5, 2006.
Margaret J. Boland,
Designated Federal Official.

[FR Doc. 06-5243 Filed 6-8-06; 8:45 am]

BILLING CODE 3410-11-M